DEPARTMENT OF COMMERCE

International Trade Administration

A-549-817

Certain Hot-Rolled Carbon Steel Flat Products from Thailand: Correction to Notice of Extension of Time Limit for Final Results of Changed Circumstances Review

AGENCY: Import Administration, International Trade Administration, Department of Commerce.

EFFECTIVE DATE: December 10, 2008.

FOR FURTHER INFORMATION CONTACT: John Drury or Angelica Mendoza, AD/CVD Operations, Office 7, Import Administration, International Trade Administration, U.S. Department of Commerce, 14th Street and Constitution Avenue NW, Washington, DC 20230; telephone: (202) 482-0195 or (202) 482-3019, respectively.

Correction

On October 29, 2008, the Department of Commerce published a notice of extension of time limit for the final results of the antidumping duty changed circumstances review of the order on certain hot-rolled carbon steel flat products from Thailand. See Certain Hot-Rolled Carbon Steel Flat Products from Thailand: Extension of Time Limit for Final Results of Changed Circumstances Review, 73 FR 64303 (October 29, 2008) (“Extension Notice”). Subsequent to the publication of the Extension Notice in the Federal Register, we identified an inadvertent error.

The Extension Notice states incorrectly that the period of this changed circumstances review is October 1, 2005, to September 30, 2006. The Extension Notice is hereby corrected to read that the period of this changed circumstance review is July 1, 2006, to June 30, 2007.

This notice is published in accordance with section 777(i) of the Act.

Dated: December 2, 2008.
Stephen J. Claeys,
Deputy Assistant Secretary for Antidumping and Countervailing Duty Operations.

[FR Doc. E8-29208 Filed 12-9-08; 8:45 am]

BILLING CODE 3510-DS-S